DEPARTMENT OF TRANSPORTATION

Pipeline and Hazardous Materials Safety Administration

Office of Hazardous Materials Safety; Notice of Application for Exemptions

AGENCY: Pipeline and Hazardous Materials Safety Administration, DOT.

ACTION: List of applications for exemption.

SUMMARY: In accordance with the procedures governing the application for, and the processing of, exemptions from the Department of Transportation's Hazardous Material Regulations (49 CFR Part 107, Subpart B), notice is hereby given that the Office of Hazardous Materials Safety has received the application described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before May 16, 2005.

Address comments To: Record Center, Pipeline and Hazardous Materials Safety Administration, U.S. Department of Transportation, Washington, DC 20590.

Comments should refer to the application number and be submitted in triplicate. if Confirmation of receipt of comments is desired, include a self-addressed stamped postcard showing the exemption number.

FOR FURTHER INFORMATION CONTACT: Copies of the applications are available for inspection in the Records Center, Nassif Building, 400 7th Street SW., Washington DC or at http://dms.dot.gov.

This notice of receipt of applications for modification of exemption is published in accordance with Part 107 of the Federal hazardous materials transportation law (49 U.S.C. 5117(b); 49 CFR 1.53(b)).

Issued in Washington, DC, on April 11, 2005.
R. Ryan Posten,
Exemptions Program Officer, Office of Hazardous Materials Safety Exemptions & Approvals.

New Exemption
Application number | Docket number | Applicant | Regulation(s) affected | Nature of Exemption Thereof
14172-N | PHMSA-20906 | Pacific Bio-Material Management, Inc. Fresno, CA | 49 CFR 173.196 and 173.199 | To authorize the transportation in commerce of infectious substances in a large capacity liquid nitrogen freezer. (mode 1)
14173-N | PHMSA-20905 | Dow Chemical Company Midland, MI | 49 CFR 179.13 | To authorize the transportation in commerce of ethylene oxide in DOT specification 105J400W tank cars that exceed the maximum allowable gross weight on rail (263,000 lbs.). (mode 2)
14175-N | PHMSA-20903 | Air Products & Chemicals, Inc. Allentown, PA | 49 CFR 180.209 | To authorize the transportation in commerce of certain DOT Specification 3A and 3AA cylinders where the re-test period is extended to 10 years, the cylinders need not be removed from the bundle at each filing and that the hammer test need not be performed. (models 1, 2, 3)
14176-N | PHMSA-20902 | Great Plains Industries, Inc. Wichita, KS | 49 CFR 173.242 | To authorize the manufacture, mark and sale of refueling tanks of up to 80 gallon capacity for use in transporting various Class 3 hazardous materials. (mode 1)
14178-N |  | Brider Fire Inc. Bozeman, MT | 49 CFR 173.202 | To authorize the transportation in commerce of gelled gasoline in a non-DOT specification steel drum with a pump installed, mounted in a helitorch frame. (mode 1)
14179-N |  | USA Jet Airlines Belleville, MI | 49 CFR 175.33 | To authorize the transportation in commerce of hazardous materials by air with alternative notification to the plot. (modes 4, 5)

[FR Doc. 05-7528 Filed 4-13-05; 8:45 am]

BILLING CODE 4909—60—M